ENVIRONMENTAL PROTECTION AGENCY

[FRL-6856-6]

Meeting of the Local Government Advisory Committee

AGENCY: Environmental Protection Agency (EPA).

ACTION: Notice.

SUMMARY: The Local Government Advisory Committee will meet on September 7—8, 2000, in Alexandria, VA. The Committee will hear presentations on EPA's Unfunded Mandates Reform Act internal implementation guidance, the National Aeronautics and Space Administration's remote-sensing database (a possible tool for local planners), the Agency's Gap analysis (water infrastructure funding gap), and the land use State Implementation Plan (SIP) guidance. The full Committee will also vote on adoption of two sets of recommendations: (1) “Building the Network” recommendations developed by the former Outreach Subcommittee; and (2) recommendations concerning the Agency's arsenic regulation developed by the Small Community Advisory Subcommittee. The Issues and Process Subcommittees will meet on the afternoon of September 7 and the morning of September 8 to refine and complete their strategic plans and develop or complete recommendations.

The Committee will hear comments from the public between 11:30 a.m. and 11:45 a.m. on September 7. Each individual or organizations wishing to address the Committee will be allowed a minimum of three minutes. Please contact the Designated Federal Officer (DFO) at the number listed below to schedule agenda time. Time will be allotted on a first come, first serve basis.

This is an open meeting and all interested persons are invited to attend. Meeting minutes will be available after the meeting and can be obtained by written request from the DFO. Members of the public are requested to call the DFO at the number listed below if planning to attend so that arrangements can be made to comfortably accommodate attendees as much as possible. However, seating will be on a first come, first served basis.

DATES: The meeting will begin at 9:00 a.m. on Thursday, September 8 and conclude at 4:00 p.m. on the 9th.

ADDRESSES: The meetings will be held in Alexandria, Virginia at the Radisson Hotel located at 901 North Fairfax Street in the Washington Room.

Requests for Minutes and other information can be obtained by writing the DFO at 1200 Pennsylvania Avenue, NW (1306A), Washington, DC 20460.

FOR FURTHER INFORMATION CONTACT: The DFO for this Committee is Denise Zabinski Ney. She is the point of contact for information concerning any Committee matters and can be reached by calling (202) 564-3684 or by email at ney.denise@epa.gov.

Dated: August 7, 2000.
Denise Zabinski Ney,
Designated Federal Officer, Local Government Advisory Committee.

[FR Doc. 00-21525 Filed 8-22-00; 8:45 am]

BILLING CODE 6560-50-P